DEPARTMENT OF ENERGY

Federal Energy Regulatory Commission

[Docket No. CP01-415-019]

East Tennessee Natural Gas, LLC; Notice of Motion To Vacate Certificate in Part

January 7, 2009.

Take notice that on December 23, 2008, East Tennessee Natural Gas, LLC (East Tennessee), 5400 Westheimer Court, Houston, Texas 77056-5310, filed in Docket No. CP01-415-019, a motion to vacate a portion of the certificate authority granted on November 20, 2002, (November 20 Order) ¹ allowing East Tennessee (a) to construct and operate 93.6 miles of new mainline pipeline, 82.3 miles of pipeline looping, a new 7-mile lateral pipeline, and five new compressor stations; (b) modify nine existing compressor stations; and (c) to uprate 76.7 miles of pipeline (Patriot Project). East Tennessee states that because Henry County Power, LLC and Duke Energy Wythe, LLC, do not plan to proceed with the construction of natural gas fired electric generation facilities, East Tennessee no longer plans to construct and operate associated facilities authorized by the Commission in the November 20 Order. East Tennessee has reduced the scope of the Patriot Project facilities authorized by the Commission and has completed the construction of only those facilities required to serve shippers that require firm transportation service.

¹ East Tennessee Natural Gas, LLC, 101 FERC ¶ 61,188 (2002) (“November 20 Order”), order on reh'g, 102 FERC ¶ 61,225 (2003).

Specifically, East Tennessee requests that the Commission vacate the authority previously granted in the November 20 Order to construct:

(1) 7.04 miles of 16-inch lateral pipeline in Rockingham County, North Carolina, and Pittsylvania and Henry Counties, Virginia;

(2) 8.96 miles of 24-inch pipeline loop (Loop C) in Knox County, Tennessee;

(3) 8.74 miles of 20-inch pipeline loop (TVA Loop 3) in Moore and Franklin Counties, Tennessee;

(4) 4.12 miles of 20-inch pipeline loop (Loop 2) in Franklin and Grundy Counties, Tennessee;

(5) 6.08 miles of 20-inch pipeline loop (Loop 3A) in Sequatchie and Hamilton Counties, Tennessee;

(6) 6.06 miles of uprated pipeline (part of Uprate C) in Roane County, Tennessee;

(7) 5.44 miles of uprated pipeline (TVA Uprate) in Franklin County, Tennessee;

(8) 14.87 miles of uprated pipeline (Uprate D) in Hamilton County, Tennessee;

(9) 7.0 miles of uprated pipeline (Uprate 2) in Grundy County, Tennessee;

(10) 18.65 miles of uprated pipeline (Uprate L) in Greene and Washington Counties, Tennessee;

(11) New compressor station 3212 in Hamilton County, Tennessee;

(12) New compressor station 3303 in Jefferson County, Tennessee;

(13) Additional compression at compressor stations 3110, 3206, 3308, and 3309 in Morgan, Marshal, and Sullivan Counties, Tennessee;

(14) Replacement of the aerodynamic assembly at compressor stations 3206, 3209, and 3309 in Marshal, Franklin, and Sullivan Counties, Tennessee;

(15) DENA Wythe meter station in Wythe County, Virginia;

(16) Henry County meter station in Henry County, Virginia.

The motion is on file with the Commission and open for public inspection. This motion is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions concerning this motion to vacate may be directed to Christine M. Pallenik, Associate General Counsel, East Tennessee Natural Gas, LLC, P.O. Box 1642, Houston, Texas 77251-1642, or via telephone at (713) 627-5241.

There are two ways to become involved in the Commission's review of East Tennessee's request. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to East Tennessee's project. The Commission will consider these comments in determining the appropriate action to be taken, but the filing of a comment alone will not serve to make the filer a party to the proceeding. The Commission's rules require that persons filing comments in opposition to the project provide copies of their protests only to the party or parties directly involved in the protest.

Persons who wish to comment only in support of or in opposition to East Tennessee's request should submit an original and two copies of their comments to the Secretary of the Commission. The Commission's rules require that persons filing comments in opposition to the project provide copies of their protests only to the applicant. However, the non-party commenters will not receive copies of all documents filed by other parties or issued by the Commission and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: January 28, 2009.

Kimberly D. Bose,
Secretary.

[FR Doc. E9-545 Filed 1-13-09; 8:45 am]

BILLING CODE 6717-01-P